DEPARTMENT OF THE TREASURY

Office of Foreign Assets Control

31 CFR Part 591

Publication of Venezuela Sanctions Regulations Web General Licenses 1, 2, 4, and Subsequent Iterations

AGENCY: Office of Foreign Assets Control, Treasury.

ACTION: Publication of Web General Licenses.

SUMMARY: The Department of the Treasury's Office of Foreign Assets Control (OFAC) is publishing seven general licenses (GLs) issued in the Venezuela Sanctions program: GLs 1, 2, 2A, 4, 4A, 4B, and 4C, each of which was previously made available on OFAC's website.

DATES: GL 1 was issued on August 25, 2017. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On August 25, 2017, OFAC issued GLs 1, 2, and 4 to authorize certain transactions otherwise prohibited by Executive Order (E.O.) 13808 of August 24, 2017, “Imposing Additional Sanctions with Respect to the Situation in Venezuela” (82 FR 41155, August 29, 2017). Subsequently, OFAC issued one further iteration of GL 2 and three further iterations of GL 4. On August 5, 2019 OFAC issued GL 2A pursuant to E.O. 13808 and E.O. 13884 of August 5, 2019, “Blocking Property of the Government of Venezuela” (84 FR 38843, August 7, 2019). GL 2A superseded GL 2. On March 22, 2019 OFAC issued GL 4A pursuant to E.O. 13808 and E.O. 13850 of November 1, 2018, “Blocking Property of Additional Persons Contributing to the Situation in Venezuela” (83 FR 55243, November 2, 2018). GL 4A superseded GL 4. On April 17, 2019, OFAC issued GL 4B, which superseded GL 4A. On August 5, 2019, OFAC issued GL 4C pursuant to E.O.s 13808, 13850, and 13884. GL 4C superseded GL 4B. On November 22, 2019, OFAC incorporated the prohibitions of Executive Order 13808, as well as any other Executive orders issued pursuant to the national emergency declared in Executive Order 13692 of March 8, 2015, into the Venezuelan Sanctions Regulations, 31 CFR part 591. Each GL was made available on OFAC's website (www.treas.gov/ofac) when it was issued. The text of these GLs is provided below.

OFFICE OF FOREIGN ASSETS CONTROL

Executive Order of August 24, 2017

Imposing Additional Sanctions With Respect to the Situation in Venezuela

GENERAL LICENSE 1

Authorizing Certain Activities Necessary to Wind Down Existing Contracts

(a) Except as provided in paragraph (b) of this general license, all transactions prohibited by Subsections 1(a)(i)-(iii) and Subsection 1(b) of Executive Order of August 24, 2017, “Imposing Additional Sanctions with Respect to the Situation in Venezuela,” that are ordinarily incident and necessary to wind down contracts or other agreements that were in effect prior to August 25, 2017, are authorized through September 24, 2017.

(b) This general license does not authorize activities that are otherwise prohibited under Executive Order of August 24, 2017, Executive Order 13692 of March 8, 2015, or any part of 31 CFR Chapter V.

(c) U.S. persons participating in transactions authorized by this general license are required, within 10 business days after the transactions take place, to file a detailed report, including the parties involved, the value of the transactions, and the dates of the transactions, with the Office of Foreign Assets Control, Sanctions Compliance and Evaluation Division, U.S. Treasury Department, 1500 Pennsylvania Avenue NW, Freedman's Bank Building, Washington, DC 20220. Reports may also be filed via email to OFACReport@treasury.gov.

Andrea Gacki,

Acting Director, Office of Foreign Assets Control,

Dated: August 25, 2017.

OFFICE OF FOREIGN ASSETS CONTROL

Executive Order of August 24, 2017

Imposing Additional Sanctions With Respect to the Situation in Venezuela

GENERAL LICENSE 2

Authorizing Certain Transactions Involving CITGO Holding, Inc.

(a) Except as provided in paragraph (b) of this general license, all transactions prohibited by Subsections 1(a)(i), 1(a)(ii), and 1(b) of Executive Order of August 24, 2017, “Imposing Additional Sanctions with Respect to the Situation in Venezuela,” where the only Government of Venezuela entities involved are CITGO Holding, Inc. and any of its subsidiaries, are authorized.

(b) This general license does not authorize any transaction that is otherwise prohibited under Executive Order of August 24, 2017, Executive Order 13692 of March 8, 2015, or any part of 31 CFR Chapter V.

Andrea Gacki,

Acting Director, Office of Foreign Assets Control,

Dated: August 25, 2017.

OFFICE OF FOREIGN ASSETS CONTROL

Executive Order 13808 of August 24, 2017

Imposing Additional Sanctions With Respect to the Situation in Venezuela

Executive Order of August 5, 2019

Blocking Property of the Government of Venezuela

GENERAL LICENSE 2A

Authorizing Certain New Debt, New Equity, and Securities Transactions Involving PDV Holding, Inc. and CITGO Holding, Inc.

(a) Except as provided in paragraph (b) of this general license, all transactions and activities prohibited by Subsections 1(a)(i), 1(a)(ii), and 1(b) of Executive Order (E.O.) 13808, as amended by E.O. 13857 of January 25, 2019, or E.O. of August 5, 2019, where the only Government of Venezuela entities involved are PDV Holding, Inc. (PDVH), CITGO Holding, Inc., or any of their subsidiaries, are authorized.

(b) This general license does not authorize any transaction that is otherwise prohibited by E.O. of August 5, 2019, or E.O. 13835 of May 21, 2018, E.O. 13827 of March 19, 2018, E.O. 13850 of November 1, 2018, E.O. 13808, or E.O. 13692 of March 8, 2015, each as amended by E.O. 13857, or by any part of 31 CFR chapter V.

(c) Effective August 5, 2019, General License No. 2, dated August 25, 2017, is replaced and superseded in its entirety by this General License No. 2A.

Andrea Gacki

Director, Office of Foreign Assets Control,

Dated: August 5, 2019.

OFFICE OF FOREIGN ASSETS CONTROL

Executive Order of August 24, 2017

Imposing Additional Sanctions with Respect to the Situation in Venezuela

GENERAL LICENSE 4

Authorizing New Debt Transactions Related to the Exportation or Reexportation of Agricultural Commodities, Medicine, Medical Devices, or Replacement Parts and Components

(a) Except as provided in paragraph (b) of this general license, all transactions related to, the provision of financing for, and other dealings in new debt related to the exportation or reexportation, from the United States or by a U.S. person, wherever located, of agricultural commodities, medicine, medical devices, or replacement parts and components for medical devices to Venezuela, or to persons in third countries purchasing specifically for resale to Venezuela, provided that the exportation or reexportation is licensed or otherwise authorized by the Department of Commerce under the provisions of the Export Administration Act of 1979, as amended (50 U.S.C. 4601-4623) (see the Export Administration Regulations, 15 CFR parts 730 through 774), are hereby authorized.

(b) Limitations.

(1) Nothing in this general license relieves any exporter from compliance with the export application requirements of another Federal agency.

(2) This general license does not authorize any transaction that is otherwise prohibited by Executive Order of August 24, 2017, “Imposing Additional Sanctions with Respect to the Situation in Venezuela,” Executive Order 13692 of March 8, 2015, or any part of 31 CFR Chapter V.

(c) Covered items. For the purposes of this general license, agricultural commodities, medicine, and medical devices are defined below.

(1) Agricultural commodities. For the purposes of this general license, agricultural commodities are:

(i) Products that fall within the term “agricultural commodity” as defined in section 102 of the Agricultural Trade Act of 1978 (7 U.S.C. 5602);

(ii) Food for humans (including raw, processed, and packaged foods; live animals; vitamins and minerals; food additives or supplements; and bottled drinking water) or animals (including animal feeds);

(iii) Seeds for food crops;

(iv) Fertilizers or organic fertilizers; or

(v) Reproductive materials (such as live animals, fertilized eggs, embryos, and semen) for the production of food animals.

(2) Medicine. For the purposes of this general license, medicine is an item that falls within the definition of the term “drug” in section 201 of the Federal Food, Drug, and Cosmetic Act (21 U.S.C. 321).

(3) Medical devices. For the purposes of this general license, a medical device is an item that falls within the definition of “device” in section 201 of the Federal Food, Drug, and Cosmetic Act (21 U.S.C. 321).

Andrea Gacki

Acting Director, Office of Foreign Assets Control,

Dated: August 25, 2017.

OFFICE OF FOREIGN ASSETS CONTROL

Executive Order 13808 of August 24, 2017

Imposing Additional Sanctions With Respect to the Situation in Venezuela

Executive Order 13850 of November 1, 2018

Blocking Property of Additional Persons Contributing to the Situation in Venezuela

GENERAL LICENSE 4A

Authorizing New Debt Transactions and Transactions Involving Certain Banks Related to the Exportation or Reexportation of Agricultural Commodities, Medicine, Medical Devices, or Replacement Parts and Components

(a) Except as provided in paragraph (b) of this general license, all transactions related to, the provision of financing for, and other dealings in new debt prohibited by Executive Order (E.O.) 13808, as amended by E.O. 13857 of January 25, 2019 (“Taking Additional Steps to Address the National Emergency With Respect to Venezuela”), and transactions involving Banco de Venezuela, S.A. Banco Universal (Banco de Venezuela) or Banco Bicentenario del Pueblo, de la Clase Obrera, Mujer y Comunas, Banco Universal C.A. (Banco Bicentenario del Pueblo) prohibited by E.O. 13850, as amended by E.O. 13857, are authorized, provided that they are ordinarily incident and necessary to:

(1) The exportation or reexportation, from the United States or by a U.S. person, wherever located, of agricultural commodities, medicine, medical devices, or replacement parts and components for medical devices to Venezuela, or to persons in third countries purchasing specifically for resale to Venezuela, and provided that the exportation or reexportation is licensed or otherwise authorized by the Department of Commerce under the provisions of the Export Administration Act of 1979, as amended (50 U.S.C. 4601-4623) or its successor, the Export Control Reform Act of 2018 (see the Export Administration Regulations, 15 CFR parts 730 through 774 (EAR)); or

(2) The exportation or reexportation of agricultural commodities, medicine, medical devices, or replacement parts and components for medical devices that are not subject to the EAR, to Venezuela, or to persons in third countries purchasing specifically for resale to Venezuela, and provided that the items to be exported or reexported are not listed under any multilateral export control regime.

(b) Limitations.

(1) Nothing in this general license relieves any exporter from compliance with the export application requirements of another Federal agency.

(2) This general license does not authorize:

(A) Any transactions or dealings with Banco de Desarrollo Economico y Social de Venezuela (BANDES) or Banco Bandes Uruguay S.A. (Bandes Uruguay);

(B) The unblocking of any property blocked pursuant to E.O. 13850, as amended by E.O. 13857, or any part of 31 CFR chapter V, except as authorized by paragraph (a); or

(C) Any transaction that is otherwise prohibited by E.O. 13850 of November 1, 2018, E.O. 13835 of May 21, 2018, E.O. 13827 of March 19, 2018, E.O. 13808 of August 24, 2017, E.O. 13692 of March 8, 2015, each as amended by E.O. 13857, or any part of 31 CFR chapter V, or any transactions or dealings with any blocked person other than the blocked persons identified in paragraph (a) of this general license.

(c) Covered items. For the purposes of this general license, agricultural commodities, medicine, and medical devices are defined below.

(1) Agricultural commodities. For the purposes of this general license, agricultural commodities are:

(i) Products that fall within the term “agricultural commodity” as defined in section 102 of the Agricultural Trade Act of 1978 (7 U.S.C. 5602);

(ii) Food for humans (including raw, processed, and packaged foods; live animals; vitamins and minerals; food additives or supplements; and bottled drinking water) or animals (including animal feeds);

(iii) Seeds for food crops;

(iv) Fertilizers or organic fertilizers; or

(v) Reproductive materials (such as live animals, fertilized eggs, embryos, and semen) for the production of food animals.

(2) Medicine. For the purposes of this general license, medicine is an item that falls within the definition of the term “drug” in section 201 of the Federal Food, Drug, and Cosmetic Act (21 U.S.C. 321).

(3) Medical devices. For the purposes of this general license, a medical device is an item that falls within the definition of “device” in section 201 of the Federal Food, Drug, and Cosmetic Act (21 U.S.C. 321).

(d) Effective March 22, 2019, General License No. 4, dated August 25, 2017, is replaced and superseded in its entirety by this General License No. 4A.

Bradley T. Smith,

Deputy Director, Office of Foreign Assets Control,

Dated: March 22, 2019.

OFFICE OF FOREIGN ASSETS CONTROL

Executive Order 13808 of August 24, 2017

Imposing Additional Sanctions With Respect to the Situation in Venezuela

Executive Order 13850 of November 1, 2018

Blocking Property of Additional Persons Contributing to the Situation in Venezuela

GENERAL LICENSE 4B

Authorizing New Debt Transactions and Transactions Involving Certain Banks Related to the Exportation or Reexportation of Agricultural Commodities, Medicine, Medical Devices, or Replacement Parts and Components

(a) Except as provided in paragraph (b) of this general license, all transactions related to, the provision of financing for, and other dealings in new debt prohibited by Executive Order (E.O.) 13808, as amended by E.O. 13857 of January 25, 2019 (“Taking Additional Steps to Address the National Emergency With Respect to Venezuela”), and transactions involving Banco de Venezuela, S.A. Banco Universal (Banco de Venezuela), Banco Bicentenario del Pueblo, de la Clase Obrera, Mujer y Comunas, Banco Universal C.A. (Banco Bicentenario del Pueblo), or Banco Central de Venezuela prohibited by E.O. 13850, as amended by E.O. 13857, are authorized, provided that they are ordinarily incident and necessary to:

(1) The exportation or reexportation, from the United States or by a U.S. person, wherever located, of agricultural commodities, medicine, medical devices, or replacement parts and components for medical devices to Venezuela, or to persons in third countries purchasing specifically for resale to Venezuela, and provided that the exportation or reexportation is licensed or otherwise authorized by the Department of Commerce under the provisions of the Export Administration Act of 1979, as amended (50 U.S.C. 4601-4623) or its successor, the Export Control Reform Act of 2018 (see the Export Administration Regulations, 15 CFR parts 730 through 774 (EAR)); or

(2) The exportation or reexportation of agricultural commodities, medicine, medical devices, or replacement parts and components for medical devices that are not subject to the EAR, to Venezuela, or to persons in third countries purchasing specifically for resale to Venezuela, and provided that the items to be exported or reexported are not listed under any multilateral export control regime.

(b) Limitations.

(1) Nothing in this general license relieves any exporter from compliance with the export application requirements of another Federal agency.

(2) This general license does not authorize:

(A) Any transactions or dealings with Banco de Desarrollo Economico y Social de Venezuela (BANDES) or Banco Bandes Uruguay S.A. (Bandes Uruguay);

(B) The unblocking of any property blocked pursuant to E.O. 13850, as amended by E.O. 13857, or any part of 31 CFR chapter V, except as authorized by paragraph (a); or

(C) Any transaction that is otherwise prohibited by E.O. 13850, E.O. 13835 of May 21, 2018, E.O. 13827 of March 19, 2018, E.O. 13808, E.O. 13692 of March 8, 2015, each as amended by E.O. 13857, or any part of 31 CFR chapter V, or any transactions or dealings with any blocked person other than the blocked persons identified in paragraph (a) of this general license.

(c) Covered items. For the purposes of this general license, agricultural commodities, medicine, and medical devices are defined below.

(1) Agricultural commodities. For the purposes of this general license, agricultural commodities are:

(i) Products that fall within the term “agricultural commodity” as defined in section 102 of the Agricultural Trade Act of 1978 (7 U.S.C. 5602);

(ii) Food for humans (including raw, processed, and packaged foods; live animals; vitamins and minerals; food additives or supplements; and bottled drinking water) or animals (including animal feeds);

(iii) Seeds for food crops;

(iv) Fertilizers or organic fertilizers; or

(v) Reproductive materials (such as live animals, fertilized eggs, embryos, and semen) for the production of food animals.

(2) Medicine. For the purposes of this general license, medicine is an item that falls within the definition of the term “drug” in section 201 of the Federal Food, Drug, and Cosmetic Act (21 U.S.C. 321).

(3) Medical devices. For the purposes of this general license, a medical device is an item that falls within the definition of “device” in section 201 of the Federal Food, Drug, and Cosmetic Act (21 U.S.C. 321).

(d) Effective April 17, 2019, General License No. 4A, dated March 22, 2019, is replaced and superseded in its entirety by this General License No. 4B.

Andrea Gacki,

Director, Office of Foreign Assets Control.

Dated: April 17, 2019.

OFFICE OF FOREIGN ASSETS CONTROL

Executive Order 13808 of August 24, 2017

Imposing Additional Sanctions With Respect to the Situation in Venezuela

Executive Order 13850 of November 1, 2018

Blocking Property of Additional Persons Contributing to the Situation in Venezuela

Executive Order of August 5, 2019

Blocking Property of the Government of Venezuela

GENERAL LICENSE 4C

Authorizing Certain New Debt Transactions and Other Transactions Involving Certain Blocked Persons Related to the Exportation or Reexportation of Agricultural Commodities, Medicine, Medical Devices, Replacement Parts and Components, or Software Updates

(a) Except as provided in paragraph (b) of this general license, the following transactions are authorized, provided that they are ordinarily incident and necessary to the exportation or reexportation of agricultural commodities, medicine, medical devices, replacement parts and components for medical devices, or software updates for medical devices to Venezuela, or to persons in third countries purchasing specifically for resale to Venezuela:

(1) All transactions related to, the provision of financing for, and other dealings in new debt prohibited by Executive Order (E.O.) 13808, as amended by E.O. 13857 of January 25, 2019;

(2) All transactions prohibited by E.O. 13850, as amended by E.O. 13857, involving Banco de Venezuela, S.A. Banco Universal (Banco de Venezuela), Banco Bicentenario del Pueblo, de la Clase Obrera, Mujer y Comunas, Banco Universal C.A. (Banco Bicentenario del Pueblo), or Banco Central de Venezuela; and

(3) All transactions prohibited by E.O. of August 5, 2019 involving the Government of Venezuela.

Note to paragraph (a)(3): The authorization in paragraph (a)(3) of this general license authorizes transactions involving Government of Venezuela persons blocked solely pursuant to E.O. of August 5, 2019.

(b) This general license does not authorize:

(1) Any transactions or dealings with Banco de Desarrollo Economico y Social de Venezuela (BANDES) or Banco Bandes Uruguay S.A. (Bandes Uruguay);

(2) The unblocking of any property blocked pursuant to E.O. of August 5, 2019 or E.O. 13850, as amended, or any part of 31 CFR chapter V, except as authorized by paragraph (a); or

(3) Any transaction that is otherwise prohibited by E.O. of August 5, 2019, or E.O. 13850, E.O. 13835 of May 21, 2018, E.O. 13827 of March 19, 2018, E.O. 13808, or E.O. 13692 of March 8, 2015, each as amended by E.O. 13857, or any part of 31 CFR chapter V, or any transactions or dealings with any blocked person other than the transactions described in paragraphs (a)(2)-(3) of this general license.

(c) Covered items. For the purposes of this general license, agricultural commodities, medicine, and medical devices are defined below.

(1) Agricultural commodities. For the purposes of this general license, agricultural commodities are:

(i) Products that fall within the term “agricultural commodity” as defined in section 102 of the Agricultural Trade Act of 1978 (7 U.S.C. 5602);

(ii) Food for humans (including raw, processed, and packaged foods; live animals; vitamins and minerals; food additives or supplements; and bottled drinking water) or animals (including animal feeds);

(iii) Seeds for food crops;

(iv) Fertilizers or organic fertilizers; or

(v) Reproductive materials (such as live animals, fertilized eggs, embryos, and semen) for the production of food animals.

(2) Medicine. For the purposes of this general license, medicine is an item that falls within the definition of the term “drug” in section 201 of the Federal Food, Drug, and Cosmetic Act (21 U.S.C. 321).

(3) Medical devices. For the purposes of this general license, a medical device is an item that falls within the definition of “device” in section 201 of the Federal Food, Drug, and Cosmetic Act (21 U.S.C. 321).

(d) Effective August 5, 2019, General License No. 4B, dated April 17, 2019, is replaced and superseded in its entirety by this General License No. 4C.

Note to General License 4C: Nothing in this general license relieves any exporter from compliance with the requirements of other Federal agencies, including the Department of Commerce's Bureau of Industry and Security.

Andrea Gacki,

Director, Office of Foreign Assets Control.

Dated: August 5, 2019.

Andrea M. Gacki,
Director, Office of Foreign Assets Control.

[FR Doc. 2023-00347 Filed 1-10-23; 8:45 am]

BILLING CODE 4810-AL-P